DEPARTMENT OF TRANSPORTATION

Federal Highway Administration

Environmental Impact Statement: Chisago County, MN and Polk County, WI

AGENCY: Federal Highway Administration (FHWA), DOT.

ACTION: Notice of intent to terminate EIS.

SUMMARY: The FHWA is issuing this notice to advise the public that the Environmental Impact Statement (EIS) process for proposed transportation improvements in the Trunk Highway (TH) 8 corridor between Interstate 35 (I-35) to the west in Chisago County, Minnesota and the TH 8/Highway 35 intersection to the east in Polk County, Wisconsin is terminated. The original Notice of Intent for this EIS process was published in the Federal Register on May 14, 2002.

FOR FURTHER INFORMATION CONTACT: Cheryl Martin, Environmental Engineer, Federal Highway Administration, Galtier Plaza, Suite 500, 380 Jackson Street, St. Paul, Minnesota 55101, Telephone (651) 291-6120; or Tod Sherman, Project Manager, Minnesota Department of Transportation—Metro Division, Waters Edge Building, 1500 West County Road B-2, Roseville, Minnesota 55113, Telephone (651) 582-1548; (651) 296-9930 TTY.

SUPPLEMENTARY INFORMATION: The FHWA, in cooperation with the Minnesota Department of Transportation (Mn/DOT) and the Wisconsin Department of Transportation (Wis/DOT), has terminated the EIS process begun in 2002 to provide safety, operational and capacity improvements to the TH 8 Corridor from I-35 to the west in Chisago County, Minnesota to the intersection of TH 8/Highway 35 to the east in Polk County, Wisconsin. The original proposed project could have included capacity expansion on sections of TH 8, upgrading existing roadway systems in the Corridor, providing geometric/traffic control access improvements along TH 8, and providing new roadway facilities including some alternatives that utilize the TH 243 bridge crossing over the St. Croix River.

The “Trunk Highway 8 Scoping Document/Draft Scoping Decision Document” was published in September 2002, and copies of the document were distributed to agencies, interested persons and libraries for review to aid in identifying issues and analyses to be contained in the EIS. A 45-day comment period for review of the document was provided to afford an opportunity for all interest persons, agencies and groups to comment on the proposed action. A public Scoping Meeting was also on October 21, 2002. Public notice was given for the time and place of the meeting, and approximately 400 people were in attendance.

As a result of the scoping process, including agency and public comments, FHWA and Mn/DOT, in consultation with Wis/DOT, Chisago County, the TH 8 Task Force and TH 8 Technical Advisory Committee, decided to eliminate alternatives that included proposed transportation facilities on a new location from further consideration. The proposed action has been modified to include only transportation improvements along the existing TH 8 alignment. Therefore, the FHWA, in cooperation with Mn/DOT, will prepare subsequent environmental documents, either at the Environmental Assessment of Categorical Exclusion level for projects that will provide safety, operational and capacity improvements to the TH 8 Corridor from I-35 to Taylors Falls, Chisago County, Minnesota. The proposed improvements could include capacity expansion on sections of TH 8, and providing geometric/traffic control and access improvements along TH 8. Based on funding availability, the proposed improvements along the TH 8 Corridor could occur in phases. The environmental documents will define and evaluate projects with independent utility.

Coordination has been initiated and will continue with appropriate Federal, State and local agencies and private organizations and citizens who have previously expressed or are known to have an interest in the proposed action. Public meetings have been held in the past and will continue to be held, with public notice given for the time and place of the meetings. To ensure that the full range of issues related to this proposed action are addressed and all issues identified, comments and suggestions are invited from all interested parties. Comments or questions concerning this proposed action and the need for an EIS should be directed to the FHWA at the address provided above.

(Catalog of Federal Domestic Assistance Program Number 20.205, Highway Planning and Construction. The regulations implementing Executive Order 12372 regarding intergovernmental consultation on Federal programs and activities apply to this program.)

Issued on: October 21, 2003.
Stanley M. Graczyk,
Project Development Engineer, Federal Highway Administration, St. Paul, Minnesota.

[FR Doc. 03-27595 Filed 10-31-03; 8:45 am]

BILLING CODE 4910-22-M